DEPARTMENT OF TRANSPORTATION

Federal Transit Administration

[FTA-2021-0010]

Notice of Availability of Initial Guidance Proposals for the Capital Investment Grants Program

AGENCY: Federal Transit Administration (FTA), Department of Transportation (DOT).

ACTION: Notice of availability of initial guidance proposals for the capital investment grants program.

SUMMARY: The Federal Transit Administration (FTA) invites public comment on initial guidance proposals to implement changes made to the Capital Investment Grants (CIG) program by the Infrastructure and Investment Jobs Act (IIJA) (also known as the “Bipartisan Infrastructure Law”). The proposed guidance has been placed in the docket and posted on the FTA website. This policy guidance continues to complement FTA's regulations that govern the CIG program.

DATES: Comments must be received on or before April 14, 2022. Late-filed comments will be considered to the extent practicable.

ADDRESSES: You may submit comments to DOT docket number FTA-2021-0010 by any of the following methods:

Federal eRulemaking Portal: Go to http://www.regulations.gov and follow the online instructions for submitting comments.

U.S. Mail: Docket Management Facility, U.S. Department of Transportation, 1200 New Jersey Avenue SE, West Building, Room W12-140, Washington, DC 20590-0001.

Hand Delivery or Courier: U.S. Department of Transportation, 1200 New Jersey Avenue SE, West Building, Ground Floor, Room W12-140, Washington, DC 20590, between 9 a.m. and 5 p.m., Monday through Friday, except Federal holidays.

Fax: 202-493-2251.

Instructions: You must include the agency name (Federal Transit Administration) and docket number (FTA-2021-0010) for this notice at the beginning of your comments. You must submit two copies of your comments if you submit them by mail. If you wish to receive confirmation FTA received your comments, you must include a self-addressed, stamped postcard. Due to security procedures in effect since October 2001, mail received through the U.S. Postal Service may be subject to delays. Parties submitting comments may wish to consider using an express mail firm to ensure prompt filing of any submissions not filed electronically or by hand.

All comments received will be posted, without charge and including any personal information provided, to http://www.regulations.gov, where they will be available to internet users. You may review DOT's complete Privacy Act Statement published in the Federal Register on April 11, 2000, at 65 FR 19477. For access to the docket and to read background documents and comments received, go to http://regulations.gov at any time or to the U.S. Department of Transportation, 1200 New Jersey Avenue SE, Docket Management Facility, West Building Ground Floor, Room W12-140, Washington, DC 20590 between 9 a.m. and 5 p.m., Monday through Friday, except Federal holidays.

FOR FURTHER INFORMATION CONTACT: Elizabeth Day, FTA Office of Planning and Environment, telephone (202) 366-5159 or Elizabeth.Day@dot.gov.

SUPPLEMENTARY INFORMATION: FTA is seeking comment on three initial proposed changes to FTA's CIG Final Interim Policy Guidance last issued in June 2016. (https://www.transit.dot.gov/funding/grant-programs/capital-investments/final-capital-investment-grant-program-interim-policy). The proposals relate to changes made in the Infrastructure and Investment Jobs Act (IIJA) (Pub. L. 117-58, also known as the “Bipartisan Infrastructure Law”) to 49 U.S.C. 5309 and cover three topics: Eligibility as a Core Capacity project; how FTA will determine that a CIG project sponsor has demonstrated progress on meeting Transit Asset Management targets; and how bundles of CIG projects can enter the Project Development phase of the program. The proposals being made today are available on the agency's public website at https://www.transit.dot.gov/funding/grant-programs/capital-investments/capital-investment-grants-program-regulations-guidance and in the docket to this notice.

After review and consideration of the comments provided on the three initial CIG proposals in this document, FTA will issue a final notice and incorporate these changes into the existing CIG Policy Guidance. No other changes to the CIG Policy Guidance are being proposed at this time. Instead, FTA intends in the future to propose a more comprehensive update of the CIG Policy Guidance for notice and comment, incorporating feedback FTA received in response to its Request for Information published in the Federal Register in July 2021 (86 FR 37402). The three initial topics covered in this document are intended to assist FTA in managing the CIG program in the near term while the more comprehensive CIG policy guidance changes are developed and proposed.

Nuria I. Fernandez,
Administrator.

[FR Doc. 2022-05466 Filed 3-14-22; 8:45 am]

BILLING CODE 4910-57-P